ENVIRONMENTAL PROTECTION AGENCY

[FRL-9505-3]

Agency Information Collection Activities OMB Responses

AGENCY: Environmental Protection Agency (EPA).

ACTION: Notice.

SUMMARY: This document announces the Office of Management and Budget (OMB) responses to Agency Clearance requests, in compliance with the Paperwork Reduction Act (44 U.S.C. 3501 et seq.). An agency may not conduct or sponsor, and a person is not required to respond to, a collection of information unless it displays a currently valid OMB control number. The OMB control numbers for EPA regulations are listed in 40 CFR part 9 and 48 CFR chapter 15.

FOR FURTHER INFORMATION CONTACT: Rick Westlund (202) 566-1682, or email at westlund.rick@epa.gov and please refer to the appropriate EPA Information Collection Request (ICR) Number.

SUPPLEMENTARY INFORMATION:

OMB Responses to Agency Clearance Requests

OMB Approvals

EPA ICR Number 2397.01; NPDES Pesticide General Permit for Point Source Discharges from the Application of Pesticides (New); 40 CFR 122.28; was approved on 11/01/2011; OMB Number 2040-0284; expires on 11/30/2014; Approved without change.

EPA ICR Number 1626.11; National Refrigerant Recycling and Emissions Reduction Program (Renewal); 40 CFR part 82 subpart F; was approved on 11/04/2011; OMB Number 2060-0256; expires on 11/30/2014; Approved with change.

EPA ICR Number 2402.02; Willingness to Pay Survey for Section 316(b) Existing Facilities Cooling Water Intake Structures; was approved on 11/04/2011; OMB Number 2040-0283; expires on 07/31/2013; Approved without change.

EPA ICR Number 2103.04; Title IV of the Public Health Security and Bioterrorism Preparedness and Response Act of 2002: Drinking Water Security and Safety (Renewal); was approved on 11/10/2011; OMB Number 2040-0253; expires on 11/30/2014; Approved without change.

EPA ICR Number 0370.23; Federal Requirements under the Underground Injection Control (UIC) Program for Carbon Dioxide Geologic Sequestration Wells (Final Rule); 40 CFR part 124, 40 CFR parts 144-148; was approved on 11/10/2011; OMB Number 2040-0042; expires on 11/30/2014; Approved without change.

EPA ICR Number 1959.04; National Listing of Fish Advisories (Renewal); was approved on 11/16/2011; OMB Number 2040-0226; expires on 11/30/2014; Approved without change. EPA ICR Number 1230.30; Prevention of Significant Deterioration and Nonattainment New Source Review (Final Rule for Review of New Sources and Modifications in Indian Country—Change); 40 CFR 49.151-49.175, 40 CFR 51.160-51.166, 40 CFR part 51 Appendix S, 40 CFR 52.21-52.24; was approved on 11/17/2011; OMB Number 2060-0003; expires on 04/30/2012; Approved without change.

Comment Filed

EPA ICR Number 2376.04; Regulation to Establish Mandatory Reporting of Greenhouse Gases (Proposed Rule); in 40 CFR part 98 subpart W; OMB filed comment on 11/09/2011.

EPA ICR Number 2192.04; Unregulated Contaminant Monitoring Regulation (UCMR 3) (Proposed Rule); in 40 CFR 141.35 and 141.40; OMB filed comment on 11/10/2011.

EPA ICR Number 2060.05; Cooling Water Intake Structures Existing Facility (Proposed Rule); in 40 CFR 122.21(d)(2), 122.21(r)(2), 122.21(r)(3), 122.21(r)(5), 125.94-125.99; OMB filed comment on 11/10/2011.

Dated: December 1, 2011.
John Moses,
Director, Collections Strategies Division.

[FR Doc. 2011-31819 Filed 12-9-11; 8:45 am]

BILLING CODE 6560-50-P